DEPARTMENT OF ENERGY

Federal Energy Regulatory Commission

[Docket No. EL03-217-000]

Occidental Chemical Corporation, Complainant, v. Entergy Services, Inc. and Entergy Louisiana, Inc., Respondents; Notice of Complaint

July 31, 2003.

Take notice that on July 30, 2003, Occidental Chemical Corporation (Occidental), filed a Complaint Requesting Fast Track Processing against Entergy Services, Inc. and Entergy Louisiana, Inc. (collectively, Entergy). Occidental requests that the Commission find that Entergy's amended and restated Interconnection and Operating Agreement for Occidental's Taft cogeneration facility in Hahnville, Louisiana, is unjust and unreasonable. Occidental alleges that the agreement violates the Commission's prohibition against “and” pricing by failing to provide transmission service credits and violates Commission precedent because it does not provide interest on monies Occidental has advanced to Entergy for all network upgrades.

Occidental states that copies of the filing were served upon Energy and the Louisiana Public Service Commission.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date below. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: August 19, 2003.

Linda Mitry,
Acting Secretary.

[FR Doc. 03-19992 Filed 8-5-03; 8:45 am]

BILLING CODE 6717-01-P